DEPARTMENT OF JUSTICE

Drug Enforcement Administration

[Docket No. 12-49]

AIM Pharmacy & Surgical S. Corp. Order

On May 8, 2015, the Administrator of the Drug Enforcement Administration, noting that the expiration date of Respondent's registration was June 30, 2014, ordered the parties to address whether the case is now moot. The Administrator's Order was served on Respondent's counsel at his address of record.

The Government filed a timely response and served a copy of its response on Respondent's counsel at his address of record. Govt. Response to Administrator's May 8, 2015 Order, at 1. Respondent has not filed a response.¹

¹ After both the Administrator's Order and the Government's Response were returned to the Agency as undelivered following efforts to serve both of Respondent's counsels, the Government determined through the New York State Unified Court System's database that each attorney had a different address than that listed in the record. Notice of Recent Order and Government's Response II, at 1-2. The Government represents that on June 30, 2015, it served both the Administrator's Order and its Response on each of Respondent's attorneys by mailing them to the addresses of Respondent's attorneys as listed in the New York Unified Court System's database. Id. at 2.

In its Response, the Government advises that Respondent neither submitted a renewal application prior to the expiration of its registration nor an application for a new registration. Id. The Government therefore acknowledges that this case is now moot. Id.; see Ronald J. Riegel, 63 FR 67132, 67133 (1998). Accordingly, I dismiss the Order to Show Cause.

It is so ordered.

Date: July 27, 2015.
Chuck Rosenberg,
Acting Administrator.

[FR Doc. 2015-19116 Filed 8-3-15; 8:45 am]

BILLING CODE 4410-09-P